DEPARTMENT OF COMMERCE

International Trade Administration

[A-570-898]

Notice of Final Determination of Sales at Less Than Fair Value: Chlorinated Isocyanurates From the People's Republic of China

AGENCY: Import Administration, International Trade Administration, Department of Commerce.

DATES: Effective Date: May 10, 2005.

FOR FURTHER INFORMATION CONTACT: Cindy Lai Robinson or Brian C. Smith, AD/CVD Operations, Office 9, Import Administration, International Trade Administration, U.S. Department of Commerce, 14th Street and Constitution Avenue NW., Washington, DC 20230; telephone: (202) 482-3797 or (202) 482-1766, respectively.

Final Determination

We determine that chlorinated isocyanurates from the People's Republic of China (“PRC”) is being, or is likely to be, sold in the United States at less than fair value (“LTFV”) as provided in section 735 of Tariff Act of 1930, as amended (“the Act”). The estimated margins of sales at LTFV are shown in the “Final Determination Margins” section of this notice.

SUMMARY: On December 16, 2004, the Department of Commerce (“Department”) published its preliminary determination and postponement of the final determination in this case. On February 24, 2005, the Department published an amended preliminary determination in this case. On April 11, 2005, the Department published its partial affirmative preliminary critical circumstances determination in this case.

This investigation covers two exporters of chlorinated isocyanurates that are Mandatory Respondents ¹ and five Section A Respondents.² We invited interested parties to comment on our preliminary determination, amended preliminary determination, and preliminary critical circumstances determination. Based on our analysis of the comments we received, we have made changes to our calculations for the two Mandatory Respondents. As a result of those changes, the rate assigned to the Section A Respondents has also changed.

¹ Hebei Jiheng Chemical Co., Ltd. (“Jiheng”) and Nanning Chemical Industry Co., Ltd. (“Nanning”).

² Liaocheng Huaao Chemical Industry Co., Ltd. (“Huaao”); Shanghai Tian Yuan International Trading Co., Ltd., (“Tian Yuan”); Changzhou Clean Chemical Co., Ltd. (“Clean Chemical”); Sinochem Hebei Import & Export Corporation (“Sinochem Hebei”); and Sinochem Shanghai Import & Export Corporation (“Sinochem Shanghai”).

Case History

The Department published its preliminary determination in this investigation on December 16, 2004. See Notice of Preliminary Determination of Sales at Less Than Fair Value and Postponement of Final Determination: Chlorinated Isocyanurates from the People's Republic of China, 69 FR 75293 (December 16, 2004) (“Preliminary Determination”). On February 24, 2005, the Department published an amended preliminary determination. See Notice of Amended Preliminary Antidumping Duty Determination of Sales at Less Than Fair Value: Chlorinated Isocyanurates from the People's Republic of China, 70 FR 9035 (February 24, 2005) (“Amended Preliminary Determination”). On April 11, 2005, the Department published its partial affirmative preliminary critical circumstances determination. See Partial Affirmative Preliminary Determination of Critical Circumstances: Chlorinated Isocyanurates from the People's Republic of China, 70 FR 18362 (April 11, 2005) (“Preliminary Critical Circumstances Determination”).

Since the publication of the Preliminary Determination, the following events have occurred. The Department conducted verification of the two Mandatory Respondents: Jiheng on January 17 through 21, 2005; Nanning on January 24 through 28, 2005; and a Section A Respondent: Sinochem Hebei on January 27 and 28, 2005. See “Verification” Section below for additional information.

On January 13, 2005, Clearon Corporation and Occidental Chemical Corporation (the “Petitioners”), Jiheng, and Arch Chemicals, Inc. (“Arch”), an importer of subject merchandise, requested that the Department convene a hearing in this proceeding. On March 4, 2005, the Department informed all interested parties of the hearing date and location.

On February 24, 2005, the Department published the Amended Preliminary Determination.

On March 4, 2005, the petitioners filed a critical circumstances allegation.

On March 15, 2005, the Petitioners, BioLab Inc.,³ and the two Mandatory Respondents submitted case briefs.

³ On January 27, 2005, BioLab, Inc. (BioLab), a U.S. producer of chlorinated isocyanurates, submitted a letter of appearance as an interested party.

On March 17, BioLab requested a one-day extension to submit rebuttal briefs until March 22, 2005. The Department granted the request, and received the rebuttal briefs from parties on March 22, 2005. On March 24, 2005, the Department convened a public hearing in accordance with 19 CFR 351.310(d)(l). Representatives for the two Mandatory Respondents, the Petitioners, and BioLab were in attendance. On March 29, 2005, Jiheng submitted its revised rebuttal brief.

On April 11, 2005, the Department published the Preliminary Critical Circumstances Determination. On April 14, 2005, the Petitioners submitted a case brief on the Department's Preliminary Critical Circumstances Determination.

Mandatory Respondents

On December 10, 2004, Jiheng and Nanning submitted sales reconciliation documentation. Jiheng also submitted its response to a question addressed in the Department's November 12, 2004, letter concerning its reported sulfuric acid data. On December 17, 2004, the Department sent a supplemental questionnaire for sales and cost reconciliations to Jiheng and Nanning. On December 21, 2004, the Department sent another supplemental questionnaire to Jiheng addressing certain deficiencies in its November 23, 2004, submission. On December 22, 2004, Arch Chemicals, an interested party in this proceeding, submitted a copy of its July 30, 2004, rebuttal scope comments, “Respondent's Reply to Petitioners' Scope Comments,” which are applicable to the dual PRC and Spain antidumping proceedings: Antidumping Duty Investigation of Chlorinated Isocyanurates from People's Republic of China and Spain, Case Nos. A-570-898 and A-469-814.

On December 20, 2004, Jiheng and Nanning submitted ministerial error allegations.

On January 4, 2005, Jiheng submitted its response to the Department's December 21, 2004, supplemental questionnaire. On January 5 and 12, 2005, Jiheng and Nanning submitted their responses to the Department's December 17, 2004, sales and cost reconciliations questionnaire, respectively.

On January 10, 2005, Jiheng submitted a revised sales listing and factors of production database to correct its date of payment and consumption for coal and water, respectively. On January 10, 2005, Nanning also submitted a revised factors of production listing to replace Attachment 1 of its November 17, 2004, submission.

On January 10 and 13, 2005, the Department issued verification outlines to Jiheng and Nanning, respectively. On January 14, 2005, the Petitioners submitted pre-verification comments regarding Jiheng. On January 18, 2005, the Petitioners submitted a letter requesting the Department's verification team to examine a company, “Dry Chlorine Corp,” which they claimed was possibly related to Jiheng. On January 19, 2005, Jiheng submitted rebuttal comments on the Petitioners' January 13, 2005, pre-verification comments. On January 21, 2005, Jiheng submitted a revision to its rebuttal comments.

On January 24, 2005, the Department issued a clerical error memorandum. See Memorandum to the File, dated January 24, 2005, from the team to James C. Doyle, Office Director, Regarding Antidumping Duty Investigation of Chlorinated Isocyanurates from the People's Republic of China (“China”): Analysis of Allegations of Ministerial Errors (“Clerical Error Memo”).

On January 21, 2005, Jiheng and Nanning requested a 17-day extension until February 11, 2005, for Nanning and other interested parties to submit surrogate value information for consideration in the final determination. The Department granted the request on January 24, 2005.

On January 27, 2005, Jiheng filed a second ministerial error allegation. On January 31, 2005, the petitioners submitted rebuttal comments to Jiheng's January 27, 2005, allegation. On February 4, 2005, Jiheng submitted a letter requesting that the Department strike from the record the petitioners' January 31, 2005, comments. The Department amended its Preliminary Determination on February 24, 2005.

On February 15, 2005, the Petitioners, BioLab, and the two Mandatory Respondents submitted surrogate value data. On February 25, 2005, the petitioners filed additional data.

On February 16, 2005, the Department received a request from U.S. Customs and Border Protection (“CBP”) to update the HTS numbers in the AD/CVD Module associated with this proceeding. See Memorandum to James Doyle, Office 9, dated February 16, 2005, from Tom Futtner, Liaison w/Customs, Customs Unit, Regarding Request for HTS Number Update(s) to AD/CVD Module Chlorinated Isos (A-570-898).

On March 2, 2005, the Department released the verification report for Jiheng. On March 7, 2005, the Department released the verification report for Nanning.

On March 4, 2005, the Petitioners filed a timely allegation of critical circumstances (“critical circumstances petition”). On March 8 and 14, 2005, the Department requested that Jiheng and Nanning report their shipment data of subject merchandise to the United States on a monthly basis for 2002, 2003, 2004, and 2005. On March 13, 14, and 17, 2005, Nanning and Jiheng provided the requested information. On April 4, 2005, the Department issued its preliminary determination on critical circumstances. See Critical Circumstances Preliminary Determination.

Section A Respondents

On December 20, 2004, the Department sent the verification outlines to the two selected Section A Respondents, Sinochem Hebei and Tian Yuan. On January 3, 2005, Sinochem Hebei submitted a minor correction to its quantity and value. On January 13, 2005, Tian Yuan informed the Department that it would not participate in verification. On February 24, 2005, the Department released the verification report for Sinochem Hebei.

Analysis of Comments Received

All issues raised in the case and rebuttal briefs by parties in this investigation are addressed in the Issues and Decision Memorandum, dated May 2, 2005, which is hereby adopted by this notice (“Decision Memorandum”). A list of the issues which parties raised and to which we respond in the Decision Memorandum is attached to this notice as an Appendix. The Decision Memorandum is a public document and is on file in the Central Records Unit (“CRU”), Main Commerce Building, Room B-099, and is accessible on the Web at http://ia.ita.doc.gov/. The paper copy and electronic version of the memorandum are identical in content.

Scope Comments

In the Preliminary Determination, we found that Arch's patented chlorinated isocyanurate tablet is included within the scope of this antidumping duty investigation. See Preliminary Determination. We received no further comments from any interested party regarding our preliminary finding. Therefore, for this final determination, we continue to find that Arch's patented chlorinated isocyanurate tablet is included within the scope of this antidumping duty investigation.

Scope of Investigation

The products covered by this investigation are chlorinated isocyanurates. Chlorinated isocyanurates are derivatives of cyanuric acid, described as chlorinated s-triazine triones. There are three primary chemical compositions of chlorinated isocyanurates: (1) Trichloroisocyanuric acid (Cl3 (NCO)3), (2) sodium dichloroisocyanurate (dihydrate) (NaCl2(NCO)3 (2H2O), and (3) sodium dichloroisocyanurate (anhydrous) (NaCl2(NCO)3). Chlorinated isocyanurates are available in powder, granular, and tableted forms. This investigation covers all chlorinated isocyanurates.

Chlorinated isocyanurates are currently classifiable under subheadings 2933.69.6015, 2933.69.6021, and 2933.69.6050 of the Harmonized Tariff Schedule of the United States (“HTSUS”).⁴ The tariff classification 2933.69.6015 covers sodium dichloroisocyanurates (anhydrous and dihydrate forms) and trichloroisocyanuric acid. The tariff classifications 2933.69.6021 and 2933.69.6050 represent basket categories that includes chlorinated isocyanurates and other compounds including an unfused triazine ring. Although the HTSUS subheadings are provided for convenience and customs purposes, the written description of the scope of this investigation is dispositive. Arch's patented chlorinated isocyanurates tablet is also included in the scope of this investigation. See Scope Comments section, above. See also Partial Affirmative Preliminary Determination of Critical Circumstances: Chlorinated Isocyanurates from the People's Republic of China, 70 FR 18362 (April 11, 2005) (“Critical Circumstances Preliminary Determination”).

⁴ In the scope section of the Department's initiation and in its preliminary determination notices, chlorinated isocyanurates were classified under subheading 2933.69.6050 of the HTSUS. (See Initiation of Antidumping Duty Investigations: Chlorinated Isocyanurates From the People's Republic of China and Spain, 69 FR 32,488 (June 10, 2004), and Preliminary Determination. Effective January 1, 2005, chlorinated isocyanurates are also currently classifiable under subheadings 2933.69.6015 and 2933.69.6021 of the HTSUS. The new subheading 2933.69.6015 covers sodium dichloroisocyanurates (anhydrous & dihydrate forms) and trichloroisocyanuric acid, and subheading 2933.69.6021 covers all other chlorinated isos used as pesticides (bactericides). The subheading 2933.69.6050 covers all other chlorinated isos not used as pesticides. See Memorandum to James Doyle, Office 9, dated February 16, 2005, from Tom Futtner, Liaison w/Customs, Customs Unit, regarding Request for HTS Number Update(s) to AD/CVD Module Chlorinated Isos (A-570-898).

Verification

As provided in section 782(i) of the Act, we verified the information submitted by the Mandatory Respondents and Sinochem Hebei (i.e., one of the Section A Respondents) for use in our final determination. See the Department's verification reports on the record of this investigation in the CRU with respect to Jiheng, Nanning, and Sinochem Hebei. For all verified companies, we used standard verification procedures, including examination of relevant accounting and production records, as well as original source documents provided by the respondents.

Period of Investigation

The period of investigation (“POI”) is October 1, 2003, through March 31, 2004. This period corresponds to the two most recent fiscal quarters prior to the month of the filing of the Petition (May 14, 2004). See 19 CFR 351.204(b)(1).

Surrogate Country

In the Preliminary Determination, we stated that we had selected India as the appropriate surrogate country to use in this investigation for the following reasons: (1) India is at a level of economic development comparable to that of the PRC; (2) Indian manufacturers produce comparable merchandise, specifically are significant producers of calcium hypochlorite; ⁵ (3) India provides the best opportunity to use appropriate, publicly available data to value the factors of production. See Preliminary Determination, 69 FR at 75297; and see Memorandum to James Doyle, Program Manager, dated July 10, 2004, from Ron Lorentzen, Acting Director, Office of Policy, Re: Antidumping Duty Investigation on Chlorinated Isocyanurates from the People's Republic of China (“Surrogate Country Memo”), which is on file in CRU. We received no comments from interested parties concerning our selection of India as the surrogate country. Therefore, we have continued to use India as the surrogate country in the final determination and, accordingly, have calculated normal value using Indian prices to value the respondents' factors of production, when available and appropriate. We have obtained and relied upon publicly available information wherever possible. For a detailed description of the surrogate values that have changed as a result of comments the Department has received, see the May 2, 2005, Final Surrogate Value Memorandum.

⁵ For purposes of the final determination, we have determined that calcium hypochlorite and stable bleaching powder are both comparable to the subject merchandise. The record contains financial reports of Indian manufacturers which are significant producers of comparable merchandise. See Issues and Decision Memorandum for the Final Determination in the Antidumping Duty Investigation of Chlorinated Isocyanurates from the People's Republic of China, October 1, 2003, through March 31, 2004, from Barbara E. Tillman, Acting Deputy Assistant Secretary for Import Administration, to Joseph A. Spetrini, Acting Assistant Secretary for Import Administration, dated May 2, 2005.

Separate Rates

In the Preliminary Determination and the Amended Preliminary Determination the Department found that all five companies which provided responses to Section A of the antidumping questionnaire were eligible for a rate separate from the PRC-wide rate. For the final determination, we have determined that Tian Yuan is no longer qualified for separate-rate status. For a complete listing of all the companies that received a separate rate, see “Final Determination Margins” section below.

With respect to Tian Yuan, as discussed below, the Department applied adverse facts available, because it refused to allow the Department to conduct verification of its submitted information. Accordingly, Tian Yuan has not overcome the presumption that it is part of the PRC-wide entity and its entries will be subject to the PRC-wide rate. See Final Separate Rates Memorandum. See also Critical Circumstances Preliminary Determination.

The margin we calculated in the Amended Preliminary Determination for the companies receiving a separate rate was 111.03 percent. Because the rates of the selected Mandatory Respondents have changed since the Preliminary Determination and the Amended Preliminary Determination, we have recalculated the rate for Section A Respondents that are eligible for a separate rate. The rate is 137.69 percent. See Memorandum to the File from the Team, Calculation of Section A Rates, dated May 2, 2005.

Critical Circumstances

For this final determination, we have made no changes to our Preliminary Critical Circumstances Determination based on the comments received from the Petitioners on this matter. As such, the Department continues to find that critical circumstances exist for the PRC-wide entity, which includes Tian Yuan. Additionally, for this final determination, we continue to find that critical circumstances do not exist with regard to imports of chorinated isocyanurates from the PRC for Jiheng, Nanning, and for the following Section A Respondents: Huaao, Clean Chemical, Sinochem Hebei and Sinochem Shanghai. For further details regarding the Department's critical circumstances analysis from the Preliminary Critical Circumstances Determination, see Memorandum to Barbara E. Tillman, Acting Deputy Assistant Secretary for Import Administration, dated April 4, 2005, from James C. Doyle, Office Director, AD/CVD Operations, Office 9, Import Administration, Regarding the Antidumping Duty Investigation of Chlorinated Isocyanurates from the People's Republic of China -Partial Affirmative Preliminary Determination of Critical Circumstances.

On April 14, 2005, the Petitioners submitted a case brief on the Department's Preliminary Critical Circumstances Determination. The Petitioners contest the Department's Preliminary Critical Circumstances Determination on the following grounds: (1) March 2004 should be included in the comparison period instead of the base period because the respondents and other U.S. importers had knowledge that an antidumping petition was likely to be filed well before mid-March; (2) the Department should consider seasonality in its critical circumstances analysis because the consumption of the subject merchandise shows a pattern of seasonality; (3) certain off-season months (i.e., July to September) should be excluded from both the base period and the comparison period because of no-shipments or low-shipments in those months; (4) the base period and comparison period should consist of a four-month period rather a seven-month period; and (5) the Department should determine massive shipments for the Section A Respondents by using the same formula used for deriving the massive shipments for the PRC-wide entity.

We disagree with the Petitioners' argument that seasonality exists in this instant case. In this instance, imports of chlorinated isocyanurates are not necessarily dominated by seasonality. Our analysis of the shipment data for Jiheng, Nanning, and PRC as a whole show no clear seasonal patterns for the three year period between 2002 and 2004. In certain circumstances, the peak month of shipment in one year coincided with the trough month of shipment in another year. Therefore, we continued not to consider seasonal trend as a factor in the final determination. We also did not eliminate any “off-peak” months from our analysis, as suggested by the Petitioners.

After considering the Petitioners' arguments concerning the appropriate comparison period, our analysis shows that we obtain the same conclusion regarding whether there are massive imports for Jiheng, Nanning, the Section A Respondents, and the China-wide entity, regardless of whether we use March 2004 as the knowledge month, as suggested by the Petitioners, or use May 2004 as the knowledge month, in which this proceeding was filed.

Finally, we disagree with the Petitioners that massive shipments for the Section A Respondents should be determined using the same formula as used for deriving the massive shipments for the PRC-wide entity. As discussed below, the PRC-wide entity refers to those exporters of subject merchandise from the PRC that did not respond to our antidumping questionnaire and therefore have received an adverse facts available margin and an adverse inference with respect to critical circumstances. By contrast, all Section A Respondents, except Tian Yuan (see Facts Available Section below), have cooperated with the Department and therefore the use of adverse inferences is inappropriate. Therefore, for the final determination, we have continued to use the same methodology as stated in the Preliminary Critical Circumstances Determination.

The PRC-Wide Rate

Because we begin with the presumption that all companies within a non market-economy (“NME”) country are subject to government control and because only the companies listed under the “Final Determination Margins” section below have overcome that presumption, we are applying a single antidumping rate—the PRC-wide rate—to all other exporters of subject merchandise from the PRC. Such companies did not demonstrate entitlement to a separate rate. See, e.g., Final Determination of Sales at Less Than Fair Value: Synthetic Indigo from the People's Republic of China, 65 FR 25706 (May 3, 2000). See also PRC Shrimp. The PRC-wide rate applies to all entries of subject merchandise except for entries from the respondents which are listed in the “Final Determination Margins” section below (except as noted). The information used to calculate this PRC-wide rate is based on a calculated margin derived from information obtained in the course of the investigation and placed on the record of this proceeding. In this case, we have applied a rate of 285.63 percent, which is equal to the actual, calculated rate for one of the mandatory respondents, Nanning.

Facts Available

For the final determination, the Department is applying adverse facts available to Tian Yuan because Tian Yuan decided to terminate its participation in this investigation and declined verification of its Section A responses. See Tian Yuan's letter dated January 13, 2005.

Section 776(a)(2) of the Act provides that, if an interested party or any other person—(A) withholds information that has been requested by the administering authority or the Commission under this title, (B) fails to provide such information by the deadlines for submission of the information or in the form and manner requested, subject to subsections (c)(1) and (e) of section 782, (C) significantly impedes a proceeding under this title, or (D) provides such information but the information cannot be verified as provided in section 782(i), the administering authority and the Commission shall, subject to section 782(d), use the facts otherwise available in reaching the applicable determination under this title. Furthermore, Section 776(b) of the Act provides that, if a party has failed to act to the best of its ability to comply with the Department's request for information, the Department may apply an adverse inference.

In this case, Tian Yuan unilaterally decided to terminate its participation in this investigation and declined verification of its Section A responses shortly before the Department's scheduled verification. Tian Yuan's failure to participate in the Department's verification disallowed the Department to examine the accuracy and completeness of its Section A responses and, therefore, has significantly impeded this proceeding. Thus, we are using facts available, in accordance with section 776(a) of the Act. Furthermore, Tian Yuan has failed to act to the best of its ability by refusing the Department's scheduled verification. Therefore, in accordance with section 776(b) of the Act, we also find that the use of adverse facts available is warranted. For purposes of this final determination, we find that Tian Yuan does not qualify for a separate rate and will be subject to the PRC-wide rate, which is based on adverse facts available.

Changes Since the Preliminary Determination

Based on our findings at verification, additional information placed on the record of this investigation, and analysis of comments received, we have made adjustments to the calculation methodology for the final dumping margins in this proceeding. For discussion of the company-specific changes made since the preliminary determination to the final margin programs, see Final Analysis Memorandum for Jiheng and Final Analysis Memorandum for Nanning.

Margins for Cooperative Exporters Not Selected

For those exporters who responded to Section A of the Department's antidumping questionnaire, established their claim for a separate rate, and had sales of the merchandise under investigation, but were not selected as Mandatory Respondents in this investigation, the Department has calculated a weighted-average margin based on the rates calculated for those exporters that were selected to respond in this investigation, excluding any rates that are zero, de minimis or based entirely on adverse facts available. Companies receiving this rate are identified by name in the “Suspension of Liquidation” section of this notice. See Notice of Preliminary Determination of Sales at Less Than Fair Value: Honey from the People's Republic of China, 64 FR 24101 (May 11, 2001).

Surrogate Values

The Department made changes to the surrogate values used to calculate the normal value from the Preliminary Determination. For a complete discussion of the surrogate values, see Issues and Decisions Memorandum at Comments 1, 2, 3, 4, 5, 6, 8, 14, 15, 16, 17, and 18.

Final Determination Margins

We determine that the following percentage weighted-average margins exist for the POI:

Manufacturer/exporter | Weighted-average margin (percent)
Chlorinated Isocyanurates from the PRC Mandatory Respondents
Hebei Jiheng Chemical Co., Ltd. | 75.78
Nanning Chemical Industry Co., Ltd. | 285.63
PRC-Wide Rate | 285.63
Chlorinated Isocyanurates from the PRC Section A Respondents
Changzhou Clean Chemical Co., Ltd. | 137.69
Liaocheng Huaao Chemical Industry Co., Ltd. | 137.69
Sinochem Hebei Import & Export Corporation | 137.69
Sinochem Shanghai Import & Export Corporation | 137.69

Continuation of Suspension of Liquidation

In accordance with section 735(c)(1)(B) of the Act, we are directing the CBP to continue to suspend liquidation of all entries of subject merchandise from Jiheng, Nanning, the four remaining Section A Respondents (i.e., Huaao, Clean Chemical, Sinochem Hebei and Sinochem Shanghai), that are entered, or withdrawn from warehouse, for consumption on or after the December 16, 2004, the date of publication of the Preliminary Determination. However, with respect to Tian Yuan, and all other PRC exporters, the Department will continue to direct CBP to suspend liquidation of all entries of chlorinated isocyanurates from the PRC that are entered, or withdrawn from warehouse, on or after 90 days before the December 16, 2004, the date of publication of the Preliminary Determination. These suspension of liquidation instructions will remain in effect until further notice.

Disclosure

We will disclose the calculations performed within five days of the date of publication of this notice to parties in this proceeding in accordance with 19 CFR 351.224(b).

ITC Notification

In accordance with section 735(d) of the Act, we have notified the ITC of our final determination of sales at LTFV. As our final determination is affirmative, in accordance with section 735(b)(2) of the Act, within 45 days the ITC will determine whether the domestic industry in the United States is materially injured, or threatened with material injury, by reason of imports or sales (or the likelihood of sales) for importation of the subject merchandise. If the ITC determines that material injury or threat of material injury does not exist, the proceeding will be terminated and all securities posted will be refunded or canceled. If the ITC determines that such injury does exist, the Department will issue an antidumping duty order directing CBP to assess antidumping duties on all imports of the subject merchandise entered, or withdrawn from warehouse, for consumption on or after the effective date of the suspension of liquidation.

Notification Regarding APO

This notice also serves as a reminder to parties subject to administrative protective order (“APO”) of their responsibility concerning the disposition of proprietary information disclosed under APO in accordance with 19 CFR 351.305. Timely notification of return or destruction of APO materials or conversion to judicial protective order is hereby requested. Failure to comply with the regulations and the terms of an APO is a sanctionable violation.

This determination is issued and published in accordance with sections 735(d) and 777(i)(1) of the Act.

Dated: May 2, 2005.
Joseph A. Spetrini,
Acting Assistant Secretary for Import Administration.

Appendix

I. General Comments

Comment 1: Surrogate Value for Cyanuric Acid.

Comment 2: Production of Comparable Merchandise for Surrogate Financial Ratios.

Comment 3: Comparability in Level of Integration for Surrogate Financial Ratios.

Comment 4: Methodology for Valuing Caustic Soda and Chlorine Gas.

Comment 5: Surrogate Value for Electricity.

Comment 6: Intermediary Input By-products: Hydrogen Gas, Chlorine Gas, Sulfuric Acid, and Ammonia Gas.

Comment 7: Reclassification and Adjustments to Certain Financial Data.

Comment 8: Timeliness of the Petitioners' Submission on Grasim's Annual Report.

II. Company-Specific Comments

Jiheng

Comment 9: Jiheng's Allocation Methodology for Caustic Soda and Chlorine Gas.

Comment 10: Jiheng's Consumption of Certain Customer-Provided Factors of Production.

Comment 11: Revision to Jiheng's Reported Data for Certain Inputs.

Comment 12: The Petitioners' January 31, 2005, Comment on the Treatment of Jiheng's By-Products.

Comment 13: The Petitioners' January 31, 2005, Comment on Jiheng's Packing Labor.

Nanning

Comment 14: Surrogate Value for Sodium Sulfite.

Comment 15: Adjustment to Surrogate Values Used for Calcium Chloride and Sulfuric Acid.

Comment 16: Valuation of Hydrogen Gas.

Comment 17: Subtracting By-Product Offsets in the Normal Value Calculation.

Comment 18: Treatment of Chlorine Tail Gas.

Comment 19: Nanning's Indirect Labor Calculation.

Comment 20: Nanning's Shipment Date.

[FR Doc. E5-2235 Filed 5-9-05; 8:45 am]

BILLING CODE 3510-DS-P